Proclamation 9396 of February 12, 2016

Establishment of the Sand to Snow National Monument

By the President of the United States of America

A Proclamation

The Sand to Snow area of southern California is an ecological and cultural treasure, a microcosm of the great geographic diversity of the region. Rising from the floor of the Sonoran Desert to the tallest peak in southern California, the area features a remarkable diversity of plant and animal species. The area includes a portion of the San Bernardino National Forest and connects this area with Joshua Tree National Park to the east, knitting together a mosaic of spectacular landscapes stretching over 200 miles. The mountain peaks of the Sand to Snow area frame the northeastern reach of Coachella Valley along with the Santa Rosa and San Jacinto Mountains National Monument to the south. Home to desert oases at Big Morongo Canyon and Whitewater Canyon, the area serves as a refuge for desert dwelling animals and a stopover for migrating birds. The archaeological riches of the Black Lava Buttes and the historical remains of mining and ranching communities tell of past prosperity and struggle in this arid land. The unbroken expanse is an invaluable treasure for our Nation and will continue to serve as an irreplaceable resource for archaeologists, geologists, and biologists for generations to come.

The Sand to Snow area encompasses a rich diversity of geological and ecological resources, including a nearly 10,000-foot elevation gradient from the Sonoran Desert floor to the top of the 11,500-foot San Gorgonio Mountain, the highest mountain in southern California. From the flat desert lowlands, the mountains thrust upward in stark relief, creating indelible beauty along with a unique diversity of resources and a rich history of human habitation and movement. Along this remarkable topographic gradient lies an unusually wide range of ecosystems, ranging from lowland Mojave and Colorado deserts to scrub and woodlands and Mediterranean chaparral to subalpine and alpine conifer forests. San Gorgonio Mountain is one end of the longest recorded line of sight in the lower 48 States, the other being Mount Whitney, 190 miles away. In addition, the Henry Washington Survey Marker, located on San Bernardino Peak, serves as the starting point for surveying land in southern California and is included on the National Register of Historic Places.

San Gorgonio, so named after Saint Gorgonius by early 17th century Spanish missionaries, is just one name for this remarkable, region-defining mountain. The Cahuilla Indians call the mountain Kwiria-Kaich, which means “bald” or “smooth,” and consider it among the sacred peaks of southern California. The Gabrielino Indians from the Los Angeles Basin treat San Gorgonio Mountain with reverence and refer to it as Akvangna. The Luiseño Indians consider San Gorgonio Mountain sacred and the older brother of Mount San Jacinto; both peaks were among the first born of Earth Mother. The Luiseño refer to San Gorgonio Mountain as Pewipwi.

Thirty miles of the world famous Pacific Crest National Scenic Trail run through the Sand to Snow area, climbing 7,000 feet from the desert of Whitewater Canyon to Mission Springs in the San Bernardino National Forest. The history of this renowned trail dates back to the 1920s when the idea of a border-to-border trail was first conceptualized. Although the establishment of the trail took decades to fully materialize, today the trail is a national icon, highlighting the wilderness treasures of the American West. Since its completion, over 3,000 people have hiked the 2,600 miles of continuous trail along the Pacific crest, including the Mission Creek Canyon segment found within the Sand to Snow area.

The Sand to Snow area first took its current shape 175 million years ago with the subduction of the Pacific Plate beneath the North American Plate. The San Bernardino Mountain range in the western half of the Sand to Snow area is unusual in California, a transverse range as distinct from the north-south mountain ranges found through most of California. This difference in direction results from a change in the San Andreas Fault, which shifts direction to the west of the Sand to Snow area. This intersection of mountains makes this area a critical bridge for wildlife traversing the high elevations of southern California's desert landscape.

Two branches of the San Andreas Fault run through the Sand to Snow area, and the faulting that created the mountains and canyons throughout this landscape also created the Morongo Valley. The Whitewater Canyon area has been featured in numerous studies of the plate tectonics and geologic rifting of southern California, including studies that examine the impact of earthquakes on fault stability. The San Bernardino Mountains and Big Morongo Canyon contain ancient rocks from the Proterozoic Eon, along with some of the oldest exposed rocks in California, nearly 2 billion years old. Granite, gneiss, and schist in these areas have been used by geologists to better understand the tectonic history of the region, and are a testament to the area's important geologic past.

Covering a range of nearly 10,000 feet in elevation, the Sand to Snow area includes an extraordinarily diverse range of ecosystems from lowland deserts, fresh water marshes, and Mojave riparian forests, to creosote bush scrub ecosystems, and alpine peaks. Hundreds of springs rise to the surface at South Fork Meadows, the origin of the South Fork of the Santa Ana River. The Sand to Snow area has been important to biological and ecological research, as well as studies of climate and land use change, the impact of fires and invasive species management.

The area has a remarkable species richness that makes it one of most biodiverse areas in southern California. The area is home to 12 federally listed threatened and endangered animal species. Species include the endangered peninsular bighorn sheep, San Bernardino Merriam's kangaroo rat, Arroyo toad, Mountain Yellow-legged frog, and unarmored threespine stickleback, as well as the threatened Santa Ana sucker, Coachella Valley fringe-toed lizard, and desert tortoise.

A tremendous diversity of other wildlife species also make their homes here. In the San Gorgonio Wilderness, black bears, mountain lions, bobcats, mule deer, and bighorn sheep can all be found. Species such as ringtails, kit fox, striped skunk, California ground squirrel, blacktail jackrabbit, and 19 species of bat live in the Big Morongo Canyon Preserve. Amphibians and reptiles including the Mohave Rattlesnake, red diamond rattlesnake, rosy boa, desert spiny lizard, California kingsnake, Western whiptail, and Pacific tree frog also live in the Sand to Snow area.

The Sand to Snow area is famous for its oases frequented by over 240 species of birds, including the endangered Least Bell's vireo, southwestern willow flycatcher, and Yuma clapper rail, as well as the threatened coastal California gnatcatcher. Big Morongo Canyon, characterized by steep canyons, rugged terrain, and desert oases, is particularly high in biodiversity and is among the largest desert riparian habitats in California. It has been recognized as among the most important avian habitats in the State. Common birds found at Big Morongo Canyon include shore birds like the American white pelican, great blue heron, and green heron, raptors such as the Swainson's hawk, Northern Harrier, and American kestrel, owls, including the western screech-owl and great horned owl, and hummingbirds, woodpeckers, vireos, and finches. Additionally, 32 species of migratory birds of conservation concern have been identified in the Sand to Snow area, including eagles, sparrows, owls, hummingbirds, woodpeckers, and falcons, among others.

The Sand to Snow area is home to dozens of native plant species, including 14 federally listed threatened or endangered species of flowering plants. These include the endangered California dandelion, Coachella Valley milk-vetch, Cushenbury buckwheat, Cushenbury oxytheca, pedate checker-mallow, San Bernardino bluegrass, San Bernardino Mountains bladderpod, Santa Ana River woolly-star, slender-petaled mustard, and triple-ribbed milk-vetch and the threatened ash-grey paintbrush, Bear Valley sandwort, Parish's daisy, and Southern Mountain wild-buckwheat. The southern-most stand of quaking aspen trees is located here as are important stands of white fir and bigcone Douglas-fir.

The human history of the Sand to Snow area extends back thousands of years. People now identified as part of the Takic subset of the large Uto-Aztecan group of Native Americans arrived in the region around 2,500 years ago. Ancient people of the area used a wide variety of plants from both the mountains and the Mojave desert, such as honey mesquite, oak, piñon, cactus fruits, yucca roots, and tubers as well as grasses, seeds, and berries. Common tools were made of wood, bone, shell, stone, clay, and plant fibers. These people also manufactured woven goods, pipes made of stone, awls made of bone, tools associated with archery, and fire drills. They made coiled basketry and simple undecorated ceramic pots used for storage and transport.

The name “Serrano” was given to people living in the Sand to Snow area by the Spanish missionaries in the late 18th century and translates from Spanish as a “person from the mountains.” In 1834, the Spanish forcibly relocated many Serrano people to the missions. In 1840 the Serrano suffered a devastating smallpox outbreak, and the disease returned in 1860. Ruth Benedict, one of the world's foremost cultural anthropologists, studied the Serrano extensively in 1924. However, by this time there were few remaining eastern groups and no old shamans or priests survived. Today, the rich archaeological resources in this area serve to preserve the history of the Serrano people. Black Lava Butte, topped by distinctive basaltic lava flows, is sacred to the Serrano Tribe and home to a substantial number of archaeological sites, including evidence of habitation, rock art, and possible ritual activities. Black Lava Butte contains an estimated 1,700 distinct petroglyphs, most of which have not yet been studied and may provide insight into the history of the Serrano and other tribes in the region. The mesa also contains dozens of isolated grinding and milling sites and at least one shelter site, where many milling stones are present.

After the Holcomb Valley gold rush of 1860, ranchers used the area for grazing sheep, horses, and cattle. Many of the ranchers kept their herds at lower elevations during the winter and drove their stock to the meadows of the San Bernardino Mountains to graze during the summer months. Old cattle paths, watering holes, and campsites remain a part of the landscape today. Although not particularly successful, many miners prospected in the southeastern portions of the San Bernardino Mountains. Evidence still remains in the form of old cabins, mine shafts, prospecting pits, and refuse deposits.

The protection of the Sand to Snow area will preserve its cultural, prehistoric, and historic legacy and maintain its diverse array of natural and scientific resources, ensuring that the historic and scientific values of this area remain for the benefit of all Americans. In addition to its significant scientific and historic values, the area also provides world class outdoor recreation opportunities, including hunting, fishing, hiking, camping, mountain biking, and horseback riding.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which in all cases shall be confined to the smallest area compatible with the proper care and management of the objects to be protected;

WHEREAS, it is in the public interest to preserve the objects of scientific and historic interest on the Sand to Snow lands;

NOW, THEREFORE, I, BARACK OBAMA, President of the United States of America, by the authority vested in me by section 320301 of title 54, United States Code, hereby proclaim the objects identified above that are situated upon lands and interests in lands owned or controlled by the Federal Government to be the Sand to Snow National Monument (monument) and, for the purpose of protecting those objects, reserve as part thereof all lands and interests in lands owned or controlled by the Federal Government within the boundaries described on the accompanying map, which is attached to and forms a part of this proclamation. These reserved Federal lands and interests in lands encompass approximately 154,000 acres. The boundaries described on the accompanying map are confined to the smallest area compatible with the proper care and management of the objects to be protected.

All Federal lands and interests in lands within the boundaries of the monument are hereby appropriated and withdrawn from all forms of entry, location, selection, sale, or other disposition under the public land laws or laws applicable to the U.S. Forest Service, from location, entry, and patent under the mining laws, and from disposition under all laws relating to mineral and geothermal leasing, other than by exchange that furthers the protective purposes of the monument.

The establishment of the monument is subject to valid existing rights. If the Federal Government acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of Agriculture and the Secretary of the Interior (Secretaries) shall manage the monument through the U.S. Forest Service (USFS) and the Bureau of Land Management (BLM), pursuant to their respective applicable legal authorities, to implement the purposes of this proclamation. The USFS shall manage that portion of the monument within the boundaries of the National Forest System (NFS), and BLM shall manage the remainder of the monument. The lands administered by USFS shall be managed as part of the San Bernardino National Forest. The lands administered by BLM shall be managed as a unit of the National Landscape Conservation System, pursuant to applicable legal authorities.

For purposes of protecting and restoring the objects identified above, the Secretaries shall jointly prepare a management plan for the monument and shall promulgate such regulations for its management as deemed appropriate. In developing any management plans and any management rules and regulations governing NFS lands within the monument, the Secretary of Agriculture, through USFS, shall consult with the Secretary of the Interior through BLM. The Secretaries shall provide for public involvement in the development of the management plan including, but not limited to, consultation with tribal, State, and local governments. In the development and implementation of the management plan, the Secretaries shall maximize opportunities, pursuant to applicable legal authorities, for shared resources, operational efficiency, and cooperation.

Nothing in this proclamation shall be construed to interfere with the operation or maintenance, or with the replacement or modification within the existing authorization boundary, of existing water resource, flood control, utility, pipeline, or telecommunications facilities that are located within the monument. Existing water resource, flood control, utility, pipeline, or telecommunications facilities located within the monument may be expanded, and new facilities may be constructed within the monument, to the extent consistent with the proper care and management of the objects identified above. This proclamation does not alter or affect the valid existing water rights of any party, including the United States. This proclamation does not reserve water as a matter of Federal law.

Except for emergency or authorized administrative purposes, motorized vehicle use in the monument shall be permitted only on roads existing as of the date of this proclamation. Non-motorized mechanized vehicle use shall be permitted only on roads and trails designated for their use consistent with the care and management of the objects identified above.

Nothing in this proclamation shall be deemed to enlarge or diminish the rights of any Indian tribe. The Secretaries shall, to the maximum extent permitted by law and in consultation with Indian tribes, ensure the protection of Indian sacred sites and traditional cultural properties in the monument and provide access by members of Indian tribes for traditional cultural and customary uses, consistent with the American Indian Religious Freedom Act (42 U.S.C. 1996) and Executive Order 13007 of May 24, 1996 (Indian Sacred Sites).

Nothing in this proclamation shall preclude low level overflights of military aircraft, the designation of new units of special use airspace, the use or establishment of military flight training routes over the lands reserved by this proclamation, or related military uses, consistent with the care and management of the objects identified above.

Nothing in this proclamation shall be deemed to enlarge or diminish the jurisdiction of the State of California, including its jurisdiction and authority with respect to fish and wildlife management.

Nothing in this proclamation shall be construed to alter the authority or responsibility of any party with respect to emergency response activities within the monument, including wildland fire response.

Nothing in this proclamation shall be deemed to revoke any existing withdrawal, reservation, or appropriation; however, the monument shall be the dominant reservation.

Warning is hereby given to all unauthorized persons not to appropriate, injure, destroy, or remove any feature of the monument and not to locate or settle upon any of the lands thereof.

IN WITNESS WHEREOF, I have hereunto set my hand this twelfth day of February, in the year of our Lord two thousand sixteen, and of the Independence of the United States of America the two hundred and fortieth.

Billing code 3295-F6-P

[FR Doc. 2016-03548

Filed 2-17-16; 11:15 am]

Billing code 4310-10-C